DEPARTMENT OF ENERGY

[OE Docket No. PP-305]

Application for Presidential Permit; Montana Alberta Tie Ltd.

AGENCY: Office of Electricity Delivery and Energy Reliability, DOE.

ACTION: Notice of application.

SUMMARY: Montana Alberta Tie Ltd. (MATL) has applied for a Presidential permit to construct, operate, maintain, and connect an electric transmission line across the U.S. border with Canada.

DATES: Comments, protests, or requests to intervene must be submitted on or before December 1, 2005.

ADDRESSES: Comments, protests, or requests to intervene should be addressed as follows: Office of Electricity Delivery and Energy Reliability (OE-20), U.S. Department of Energy, 1000 Independence Avenue, SW., Washington, DC 20585-0350.

FOR FURTHER INFORMATION CONTACT: Ellen Russell (Program Office) (202) 586-9624 or Michael T. Skinker (Program Attorney) (202) 586-2793.

SUPPLEMENTARY INFORMATION: The construction, operation, maintenance, and connection of facilities at the international border of the United States for the transmission of electric energy between the United States and a foreign country is prohibited in the absence of a Presidential permit issued pursuant to Executive Order (EO) 10485, as amended by EO 12038.

On October 7, 2005, MATL, a Canadian corporation, filed an application with the Office of Electricity Delivery and Energy Reliability (OE) of the Department of Energy (DOE) for a Presidential permit. MATL proposes to construct a single-circuit 230-kilovolt (230-kV) electric transmission line across the U.S.-Canada international border.

The MATL transmission line project would connect the Alberta Interconnected Electrical System and NorthWestern Energy's (NWE) transmission system. NWE is a U.S. investor-owned utility serving electric customers in Montana, South Dakota and Nebraska. The proposed international transmission line would originate at a new substation to be constructed northeast of Lethbridge, Alberta, Canada, cross the U.S.-Canada international border directly north of Cut Bank, Montana (west of Sweetgrass, Montana) and extend approximately 125 miles into the U.S., terminating at an existing 230-kV substation owned by NWE north of Great Falls, Montana. Between the U.S.-Canada border and Great Falls, the transmission line would also connect to an existing substation owned by Glacier Electric Cooperatives in Cut Bank, Montana. A phase shifting transformer would be installed at the substation in Lethbridge, Alberta, to control power flows between the two regions.

MATL has indicated its intention to operate the proposed facilities as a merchant transmission line and make it available for third-party use. MATL has not applied to DOE under section 202(e) of the Federal Power Act (FPA) (16 U.S.C. 824a(e)) for authorization to export electric energy over the proposed facilities. If DOE were to grant the requested Presidential permit and MATL were to subsequently construct the proposed international transmission line, any person wishing to export electric energy to Canada utilizing those facilities would need to obtain export authority from DOE under section 202(e) of the FPA.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Additional copies of such petitions to intervene or protests also should be filed directly with: Mr. Bob Williams, Vice President Regulatory, Montana Alberta Tie Ltd., Rocky Mountain Plaza, Suite 800, 615 Macleod Trail SE., Calgary, Alberta, Canada AND Richard P. Sparling, Alston & Bird LLP, 601 Pennsylvania Avenue NW., North Building, 10th Floor, Washington, DC 20004-2601.

Before a Presidential permit may be issued or amended, the DOE must determine that the proposed action will not adversely impact on the reliability of the U.S. electric power supply system. In addition, DOE must consider the environmental impacts of the proposed action (i.e., granting the Presidential permit, with any conditions and limitations, or denying the permit) pursuant to the National Environmental Policy Act (NEPA). DOE also must obtain the concurrence of the Secretary of State and the Secretary of Defense before taking final action on a Presidential permit application.

Copies of this application will be made available, upon request, for public inspection and copying at the address provided above. In addition, the application may be reviewed or downloaded electronically at http://www.fe.doe.gov/programs/electricityregulation/. Upon reaching the home page, select “Pending Proceedings.”

Dated: Issued in Washington, DC, on October 26, 2005.
Anthony J. Como,
Director, Siting and Permitting, Office of Electricity Delivery and Energy Reliability.

[FR Doc. 05-21741 Filed 10-31-05; 8:45 am]

BILLING CODE 6450-01-P